Proclamation 8844 of July 27, 2012

National Korean War Veterans Armistice Day, 2012

By the President of the United States of America

A Proclamation

Sixty-two years ago, the Communist invasion of the Republic of Korea summoned a generation of Americans to serve. From the landings at Inchon to the Pusan Perimeter, from Heartbreak Ridge to Chosin Reservoir, our forces fought with immeasurable courage in one of the defining moments of the Cold War. Today, on the 59th anniversary of the Military Armistice Agreement signed at Panmunjom, we honor all who served in the Korean War, and we pay lasting tribute to the brave men and women who gave their lives for our Nation.

Through 3 years of combat, American service members and allied forces overcame some of the most unforgiving conditions in modern warfare. They weathered bitter winters and punishing heat. They fought on with courage and distinction—often outgunned and outmanned. Many Americans suffered wounds that would never fully heal. Still more we count among the captured and the missing, and our resolve to account for Americans who did not come home will never waver. Most of all, we honor the tens of thousands of Americans who gave their lives defending a country they had never known and a people they had never met. Their legacy lives on not only in the hearts of the American people, but in a Republic of Korea that is free and prosperous; an alliance that is stronger than ever before; and a world that is safer for their service.

Shortly after the Military Armistice Agreement was signed, President Dwight D. Eisenhower noted that “with special feelings of sorrow—and of solemn gratitude—we think of those who were called upon to lay down their lives in that far-off land to prove once again that only courage and sacrifice can keep freedom alive upon the earth.” Nearly six decades later, we renew that call to honor and reflect. Now and forever, let us keep faith with our Korean War veterans by upholding the ideals they fought to protect, and by supporting them with the care and respect they so deeply deserve.

NOW, THEREFORE, I, BARACK OBAMA, President of the United States of America, by virtue of the authority vested in me by the Constitution and the laws of the United States, do hereby proclaim July 27, 2012, as National Korean War Veterans Armistice Day. I call upon all Americans to observe this day with appropriate ceremonies and activities that honor our distinguished Korean War veterans.

IN WITNESS WHEREOF, I have hereunto set my hand this twenty-seventh day of July, in the year of our Lord two thousand twelve, and of the Independence of the United States of America the two hundred and thirty-seventh.

[FR Doc. 2012-18869

Filed 7-31-12; 8:45 am]

Billing code 3295-F2-P